DEPARTMENT OF ENERGY

Federal Energy Regulatory Commission

[Docket No. IN16-4-000]

Coaltrain Energy, L.P., Peter Jones, Shawn Sheehan, Robert Jones, Jeff Miller, Jack Wells, and Adam Hughes; Notice of Designation of Commission Staff as Non-Decisional

With respect to an order issued by the Commission on January 6, 2016 in the above-captioned docket,¹ with the exceptions noted below, the staff of the Office of Enforcement are designated as non-decisional in deliberations by the Commission in this docket. Accordingly, pursuant to 18 CFR 385.2202 (2015), they will not serve as advisors to the Commission or take part in the Commission's review of any offer of settlement. Likewise, as non-decisional staff, pursuant to 18 CFR 385.2201 (2015), they are prohibited from communicating with advisory staff concerning any deliberations in this docket.

¹ Coaltrain Energy, L.P., et al. 154 FERC ¶ 61,002 (2016).

Exceptions to this designation as non-decisional are:

Lee Ann Watson

Sean Collins

Joel Douglas

Erin Mastrangelo

Tegan Flynn

Jeremy Medovoy

Renee Thorne

Grace Kwon

DATED: January 6, 2016.
Nathaniel J. Davis, Sr.,
Deputy Secretary.

[FR Doc. 2016-00400 Filed 1-11-16; 8:45 am]

BILLING CODE 6717-01-P